CORPORATION FOR NATIONAL AND COMMUNITY SERVICE

Sunshine Act Meeting

The Board of Directors of the Corporation for National and Community Service gives notice of the following meeting:

Date and Time: Wednesday, February 8, 2006, 11 a.m.-12:30 p.m.

Place: Corporation for National and Community Service, 1201 New York Avenue, NW., 8th Floor, Room 8312, Washington, DC 20525.

Status: Open.

Matters To Be Considered:

I. Chair's Opening Remarks

II. Consideration of Prior Meeting's Minutes

III. Committee Reports

IV. CEO Report

V. Recognition of Rosie Mauk, Director of AmeriCorps

VI. Public Comment

Accommodations: Anyone who needs an interpreter or other accommodation should notify the Corporation's contact person by 5 p.m., Monday, February 6, 2006.

Contact Person For More Information: David Premo, Public Affairs Associate, Public Affairs, Corporation for National and Community Service, 10th Floor, Room 10302E, 1201 New York Avenue, NW., Washington, DC 20525. Phone: (202) 606-6717. Fax: (202) 606-3460. TDD: (202) 606-3472. E-mail: dpremo@cns.gov.

Dated: January 31, 2006.
Frank R. Trinity,
General Counsel.

[FR Doc. 06-1049 Filed 2-1-06; 10:36 am]

BILLING CODE 6050-$$-P